DEPARTMENT OF LABOR

Employment and Training Administration

[TA-W-52,751]

Cliffs Mining Services Company, Ishpeming, Michigan; Notice of Revised Determination on Reconsideration

On November 21, 2003, the Department issued an affirmative determination regarding application on reconsideration applicable to workers and former workers of the subject firm. The notice will soon be published in the Federal Register.

The initial determination stated that the subject worker group did not engage in production but provided engineering design, testing, management and technical support services for affiliates of the company. The initial investigation did not determine whether the workers were eligible to apply for Alternative Trade Adjustment Assistance since the workers were not found eligible to apply for Trade Adjustment Assistance.

On review of new information provided by the petitioner and the company official, it has been determined that subject company sales, production and employment declined during the relevant time periods, that the subject worker group was engaged in the production of iron pellets, that a majority of the workers' responsibilities involved testing and product quality control, and that a significant portion of their functions were dedicated to support an existing Trade-certified company (TA-W-40,489).

A review of the submitted documents revealed that least five percent of the workforce at the subject from is at least 50 years of age and that the workers possess skills that are not easily transferable. Competitive conditions within the industry are adverse.

Conclusion

After careful review of the additional facts obtained on reconsideration, I conclude that increased imports of articles like or directly competitive with those produced at the subject form contributed importantly to the declines in sales or production and to the total or partial separation of workers at the subject firm. In accordance with the provisions of the Act, I make the following certification:

All workers of Cliffs Mining Services Company, Ishpeming, Michigan, who became totally or partially separated from employment on or after August 19, 2002, through two years from the date of this certification, are eligible to apply for adjustment assistance under section 223 of the Trade Act of 1974, are also eligible to apply for alternative trade adjustment assistance under section 246 of the Trade Act of 1974.

Signed in Washington, DC this 22nd day of December, 2003.
Elliott S. Kushner,
Certifying Officer, Division of Trade Adjustment Assistance.

[FR Doc. 04-1523 Filed 1-23-04; 8:45 am]

BILLING CODE 4510-30-P